DEPARTMENT OF VETERANS AFFAIRS

Research Advisory Committee on Gulf War Veterans' Illnesses; Amended—Notice of Meeting

The Department of Veterans Affairs (VA) gives notice under Public Law 92-463 (Federal Advisory Committee Act) that the Research Advisory Committee on Gulf War Veterans's Illnesses will meet on May 15-16, 2006. On May 15 the meeting will be held in the 7th floor conference room of the American Legion at 1608 K Street, NW., Washington, DC. On May 16 the meeting will be held in room 230 at the Department of Veterans Affairs, 810 Vermont Avenue, NW., Washington, DC. The sessions will convene at 8 a.m. each day and adjourn at 6 p.m. on May 15 and at 3 p.m. on May 16. Sessions will be open to the public.

The purpose of the Committee is to provide advice and make recommendations to the Secretary of Veterans Affairs on proposed research studies, research plans and research strategies relating to the health consequences of military service in the Southwest Asia theater of operations during the Gulf War.

The Committee will review VA program activities related to Gulf War veterans' illnesses and updates on scientific research on Gulf War illnesses published sine the last Committee meeting. Additionally, there will be presentations and discussion of background information on the Gulf War and Gulf War illnesses, application of proteomic and genomic research to the study of Gulf War illnesses, physiological mechanisms potentially underlying chronic symptoms affecting Gulf War veterans, and discussion of committee business and activities.

Members of the public may submit written statements for the Committee's review to Dr. William J Goldberg, Designated Federal Officer, Department of Veterans Affairs (121E), 810 Vermont Avenue, NW., Washington, DC 20420. Any member of the public seeking additional information should contact Dr. Goldberg at (202) 254-0294.

Dated: April 26, 2006.
By Direction of the Secretary.
E. Philip Riggin,
Committee Management Officer.

[FR Doc. 06-4124 Filed 5-1-06; 8:45 am]

BILLING CODE 8320-01-M